ENVIRONMENTAL PROTECTION AGENCY

[EPA-409-OAR-09-0148; FRL-8783-2]

Proposed Determination for Washoe County Moe

AGENCY: Environmental Protection Agency (EPA).

ACTION: Notice; request for comments and notice of opportunity for public hearing.

SUMMARY: EPA has made a proposed determination that reduction in expenditures of non-Federal funds for the Washoe County District Health Department (WCDHD) in Reno, Nevada are a result of county-wide non-selective reductions in expenditures. This determination, when final, will permit the WCDHD to receive grant funding for FY2009 from the EPA, under Section 105 of the Clean Air Act (CAA).

DATES: Comments and/or requests for a public hearing must be received by EPA at the address state below by April 22, 2009.

ADDRESSES: Submit comments, identified by docket number [09-0148], by one of the following methods:

1. Federal Portal: http://www.regulations.gov. Follow the on-line instructions.

2. E-mail: ford.roy@epa.gov

3. or deliver to: Roy Rod (Air-8), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is districted by protected should be clearly identified as such and should not be submitted through http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://www.regulations.gov and in hard copy at EPA Region IX, 75 Hawthorne Street, San Francisco, California. While all documents in the docket are listed in the index, some information may be publicly available only at the hard copy location (e.g., CBI). To inspect the hard copy materials, please schedule an appointment during normal business hours with the contact listed in the FOR FURTHER INFORMATION CONTACT section.

FOR FURTHER INFORMATION CONTACT: Roy Ford, EPA Region IX, (415) 972-3997, ford.roy@epa.gov.

SUPPLEMENTARY INFORMATION: Under the authority of Section 105 of the CAA, EPA provides grant funding to the WCDHD to aid in the operation of its air pollution control programs. In FY2008, EPA awarded the WCDHD $632,694, which represented approximately 36% of the WCDHD budget. In FY2009, EPA will award the WCDHD $632, 649, which represents approximately 43% pf the WCDHD budget.

Section 105(c) (1) of the CAA, 42 U.S.C. 7405(c) (1) provides that “no agency shall receive any grant under this section during any fiscal year when its expenditures of non-Federal funds for recurrent expenditures for air pollution control programs will be less than its expenditures were for such programs during the preceding fiscal year. However, pursuant to Section 105(c) (2) of the CAA, EPA may still award a grant to an agency not meeting the requirements of Section 105(c) (2), “if the Administrator, after notice and opportunity for public hearing, determines that a reduction in expenditures is attributable to a non-selective reduction in the expenditures in the programs of all Executive branch agencies of the applicable unit of the Government.” These statutory requirements are repeated in EPA's implementing regulations at 40 CFR 35 140-35.148.

WCDHD's final Financial Status Report for FY08 indicated that WCDHD's maintenance of effort (MOE) level was $1,711,833. The budgeted FY2009 MOE is $1,451,265.

The projected MOE is not sufficient to meet the MOE requirements under the CAA Section 105 because it is not equal to or greater than the MOE for the previous fiscal year. In order for the WCDHD to be eligible to receive its FY2009 CAA Section 105 grant, EPA must make a determination (after notice and opportunity for a public hearing) that the reduction in expenditures is attributable to a non-selective reduction in the expenditures in the programs of all the Washoe County agencies. EPA, Region IX has yet to award the Section 105 award for the FY09 to the WCDHD.

The shortfall stems from an action taken by the Washoe County Board of County Commissioners in February 2008, directing Washoe County agencies to reduce budget expenditures in order to make up for a budget deficit of $22,700,000. The budget cuts were not aimed solely at the Health District. Each entity in Washoe County was required to reduce budget expenditures, including police and fire protection services, etc.

The Health District has five divisions: (1) Administrative Health Services (AHS); (2) Air Quality Management (AWM); (3) Community and Clinical Health Services (CCHS); (4) Environmental Health Services (EHS); and (5) Epidemiology and Public Health Preparedness (EPHP). Each division has borne a percentage of the total FY09 reduction. The combined reduction in budgeted expenditures for the Health District in FY2009 (July 1, 2008 through June 30, 2009) totaled approximately $1,581,515 as summarized below:

Division | FY09 $ reduction | FY09 % of total reduction
AHS* | $(188,509) | −11.89%
AQM** | $84,000 | 5.32%
CCHS | $1,105,569 | 69.91%
EHS | $435,681 | 27.55%
EPHP | $144,188 | 9.12%
Total | $1,581,515 | 100%
* AHS “negative” reduction due to payout budget for organizational retirements $147,000 and reorganization of personnel from CCHS and EHS to AHS (Department Computer Application Specialist, GIS Specialist, Account Clerk II, and Administrative Assistant II, −41,509).
** AQM reduction only reflects one vacancy Public Information Officer. However, two additional vacancies (Administrative Secretary Supervisor and Senior Air Quality Specialist) are anticipated to remain unfilled until funding is available. Therefore, three vacancies are reflected in FY09 anticipated MOE of $1,451,265.

To meet the $1,057,965 reduction requirements for FY09, the Health District substantially reduced budget for personnel (−$1,022,065) and minimally reduced budget for operating expenditures (−$35,000). Ten positions were permanently abolished and the Health District is holding seven (7) vacancies “dark”. The “dark” positions will remain vacant until sufficient funding is available. To meet the additional $532,550 reduction requirements for FY09, the Health District substantially reduced the budget for personnel: (−$501,550) and minimally reduced the budget for operating expenditures (−$31,000). The majority of the reduction came from the Family Planning Program local budget, which was reduced by 50%, or $372,250.

The WCDHD's MOE reduction resulted from a loss of revenues from the County to all agencies due to circumstances beyond its control. EPA proposes to determine that the WCDHD lower FY9 MOE level meets the CAA Section 105(c)(2) criteria as resulting from a non-selective reduction of expenditures.

This notice constitutes a request for public comment and an opportunity for public hearing as required by the CAA. All written comments received by April 22, 2009 on this proposal will be considered. EPA will conduct a public hearing on this proposal only if a written request for such is received by EPA at the address above by April 22, 2009. If no written request for a hearing is received, EPA will proceed to the final determination. While notice of the final determination will not be published in the Federal Register, copies of the determination can be obtained by sending a written request to Roy Ford at the above address.

Authority: 42 U.S.C. 7405 et seq.

Dated: March 9, 2009.
Laura Yoshii,
Acting Regional Administrator, Region IX.

[FR Doc. E9-6159 Filed 3-20-09; 8:45 am]

BILLING CODE